FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 17, 2012.

A. Federal Reserve Bank of Chicago (Colette A. Fried, Assistant Vice President) 230 South LaSalle Street, Chicago, Illinois 60690-1414:

1. Sidney J. Lee, as an individual, and together with Medora Lee, both of Chicago, Illinois, and Serena Lee, Greenwich, Connecticut; as a group acting in concert to acquire control of American Metro Bancorp, Inc., and thereby indirectly acquire control of American Metro Bank, both in Chicago, Illinois.

Board of Governors of the Federal Reserve System, June 27, 2012.
Robert deV. Frierson,
Deputy Secretary of the Board.

[FR Doc. 2012-16122 Filed 6-29-12; 8:45 am]

BILLING CODE 6210-01-P